DEPARTMENT OF ENERGY

Federal Energy Regulatory Commission

Notice of Termination of License by Implied Surrender and Soliciting Comments, Protests, and Motions To Intervene

July 9, 2010.

Take notice that the following hydroelectric proceeding has been initiated by the Commission:

a. Type of Proceeding: Termination of license by implied surrender.

b. Project No.: 3037-014.

c. Date Initiated: July 01, 2010.

d. Licensee/owner/former owners: Roosevelt Hydroelectric Company; Rhode Island Department of Environmental Management; BTSFEO, LLC (BTSFEO); and Tai-O Associates L.P. (Tai-O).

e. Name and Location of Project: The constructed 700-kilowatt (kW) Elizabeth Webbing Mills Project is located on the Blackstone River in Providence County, Rhode Island.

f. Proceeding Initiated Pursuant to: Standard Article 16 of the project's license and 18 CFR 6.4 (2010).

g. FERC Contact: Diane Murray, (202) 502-8838.

h. Deadline for filing comments, protests, and motions to intervene: August 9, 2010.

Comments, Motions to Intervene, and Protests may be filed electronically via the Internet. See 18 CFR 385.2001(a)(1)(iii) and the instructions on the Commission's Web site under the “eFiling” link. Please include the project number (P-3037-014) on any documents or motions filed. If unable to be filed electronically, documents may be paper-filed. To paper-file, an original and eight copies should be mailed to: Secretary, Federal Energy Regulatory Commission, 888 First Street, NE., Washington, DC 20426. For more information on how to submit these types of filings, please go to the Commission's Web site located at http://www.ferc.gov/filing-comments.asp.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

i. Description of Existing Facilities: (1) A granite masonry dam, 156 feet long and 10 feet high with provisions for installing 12-inch flashboards; (2) a reservoir of negligible storage capacity; (3) a headrace, 14 to 40 feet wide and 39 feet long; (4) a powerhouse, 40 feet wide and 39 feet long, containing a turbine with a rated capacity of 745 kW, connected to a generator with a rated capacity of 700 kW; (5) a 400-foot-long, 5-kV transmission line, a 1,000-kVA transformer, and a 70-foot-long, 15-kV transmission line; (6) a tailrace; and (7) other appurtenances.

j. Description of Proceeding:

18 CFR 6.4 of the Commission's regulations provides, among other things, that it is deemed to be intent of a licensee to surrender a license, if the licensee abandons a project for a period of three years. In addition, standard Article 16 of the license for Project No. 3037, provides, in pertinent part:

If the Licensee shall cause or suffer essential project property to be removed or destroyed or to become unfit for use, without adequate replacement, or shall abandon or discontinue good faith operation of the project or refuse or neglect to comply with the terms of the license and the lawful orders of the Commission * * *, the Commission will deem it to be the intent of the Licensee to surrender the license * * *

A minor license for the project was issued in 1981 to Roosevelt Hydro Electric Company (Roosevelt Hydro). 16 FERC ¶ 62,040 (1981). The project has not operated since 2001 when Roosevelt Hydro filed for bankruptcy and is currently in disrepair. BTSFEO purchased the project in 2004 through the bankruptcy proceeding, and in December 2006 it sold the project to Tai-O. In September 2009, Tai-O entered into a contract with Rhode Island DEM to sell the project to Rhode Island DEM. The sale has been completed.

By order issued July 09, 2010, the Commission dismissed an application for approval to transfer the license to Tai-O (because Tai-O sold the project and does not intend to act as a licensee) and initiated a proceeding to terminate the license for Project No. 3037 by implied surrender.

k. Location of the Order: A copy of the order is available for inspection and reproduction at the Commission in the Public Reference Room or may be viewed on the Commission's website at http://www.ferc.gov using the “eLibrary” link. Enter the docket number excluding the last three digits in the docket number field to access the document. For assistance, call toll-free 1-866-208-3676 or e-mail FERCOnlineSupport@ferc.gov. For TTY, call (202) 502-8659.

l. Individuals desiring to be included on the Commission's mailing list should so indicate by writing to the Secretary of the Commission.

m. Filing and Service of Responsive Documents—Any filings must bear in all capital letters the title “COMMENTS”, “PROTEST”, or “MOTION TO INTERVENE”, and “RECOMMENDATIONS FOR TERMS AND CONDITIONS”, as applicable, and the Project Number of the proceeding.

n. Agency Comments—Federal, states, and local agencies are invited to file comments on the described proceeding. If an agency does not file comments within the time specified for filing comments, it will be presumed to have no comments.

Kimberly D. Bose,
Secretary.

[FR Doc. 2010-17549 Filed 7-16-10; 8:45 am]

BILLING CODE 6717-01-P